DEPARTMENT OF ENERGY

Federal Energy Regulatory Commission

Notice of Intent To File an Application for A New License

May 27, 2003.

a. Type of Filing: Notice of Intent to File An Application for a New License.

b. Project No.: 906.

c. Date Filed: May 19, 2003.

d. Submitted By: Virginia Electric and Power Company, d.b.a. Virginia Dominion Power—current licensee.

e. Name of Project: Cushaw Hydroelectric Project.

f. Location: On the James River in Amherst County, Virginia. The project occupies federal land within the Jefferson National Forest.

g. Filed Pursuant to: Section 15 of the Federal Power Act

h. Licensee Contact: James Thornton, Dominion Virginia Power, (Manager for Licensee), Innsbrook Technical Center, 1 NE., 5000 Dominion Boulevard, Glen Allen, VA 23060, (804) 273-3257.

i. FERC Contact: Janet Hutzel, janet.hutzel@ferc.com, (202) 502-8675.

j. Effective date of current license: September 1, 1980.

k. Expiration date of current license: June 15, 2008.

l. Description of the Project: The project consists of the following existing facilities: (1) A 1,550-foot-long, 27-foot-high concrete dam; (2) a 138-acre reservoir; (3) a powerhouse containing five turbine generating units with a total installed capacity of 7,500 kW; and (4) other appurtenances.

m. Each application for a new license and any competing license applications must be filed with the Commission at least 24 months prior to the expiration of the existing license. All applications for license for this project must be filed by June 15, 2006.

n. A copy of this filing is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or TTY (202) 502-8659. A copy is also available for inspection and reproduction at the address in item h above.

o. Register online at http://www.ferc.gov/esubscribenow.htm to be notified via email of new filings and issuances related to this or other pending projects. For assistance, contact FERC Online Support as shown in the paragraph above.

Magalie R. Salas,
Secretary.

Project No. 906-000

Mail List for P-906; Virginia Electric and Power Company

Dr. William E. Trout, III, American Canal Society, 35 Towana Rd, Richmond, VA 23226-3124.

Director, Bureau of Land Management, Eastern States Office, 7450 Boston Blvd, Springfield, VA 22153-3121.

Regional Engineer, Federal Energy Regulatory Commission, Atlanta Regional Office, 3125 Presidential Pkwy Ste 300, Atlanta, GA 30340-3700.

Executive Director, Historic Landmarks Commission, 2801 Kensington Ave, Richmond, VA 23221-2470.

Regional Director, National Marine Fisheries Service, Northeast Regional Office—DOC/NOAA, 1 Blackburn Dr, Gloucester, MA 01930-2237.

Administrator, National Marine Fisheries Service, 904 S Morris St, Oxford, MD 21654-1323.

Chief, National Park Service, Northeast Region—U.S. Custom House, 200 Chestnut St, Philadelphia, PA 19106-2912.

Director, Northern Virginia Regional Park Auth., 5400 Ox Rd, Fairfax Station, VA 22039-1022.

Chairman, South Carolina Dept of Natural Resources, 1201 Main St Ste 1100, Columbia, SC 29201-3265.

Regional Director, U.S. Fish & Wildlife Service, 300 Westgate Center Dr, Hadley, MA 01035-9587.

Director, U.S. Fish & Wildlife Service, Chesapeake Bay Field Office, 177 Admiral Cochrane Dr, Annapolis, MD 21401-7307.

Gloucester Point_Office Director, U.S. Fish & Wildlife Service, 6669 Short Ln, Gloucester, VA 23061-4410.

Commander, U.S. Army Corps of Engineers, PO Box 1159, Cincinnati, OH 45201-1159.

U.S. Army Engineer Div., U.S. Army Corps of Engineers, North Atlantic Division—CENAD-ET-P, 405 Gen. Lee Ave., Fort Hamilton Mil. Com., Brooklyn, NY 11252-6700.

Chief, U.S. Army Corps of Engineers, District Office, 803 Front St, Norfolk, VA 23510-1011.

Fred Allgaier, U.S. Bureau of Indian Affairs, 3000 Youngfield St Ste 230, Lakewood, CO 80215-6551.

Solicitors Office, U.S. Bureau of Indian Affairs, 1849 C St NW., Rm 6454, Washington, DC 20240-0001.

Malka Pattison, U.S. Bureau of Indian Affairs, Office of Trust Responsibilities, 1849 C Street, NW., MS 4513 MIB, Washington, DC 20240-0001.

Dr. James Kardatzke, Ecologist, U.S. Bureau of Indian Affairs, Eastern Regional Office 711 Stewarts Ferry Pike, Nashville, TN 37214-2751.

Commanding Officer, U.S. Coast Guard, MSO Hampton Roads, 200 Granby St, Norfolk, VA 23510-1811.

Director, U.S. Department of Energy, Suite 501, 1880 John F Kennedy Blvd., Philadelphia, PA 19103-7422.

Director, U.S. Department of the Interior, Bureau of Land Management Region 1-V, 7450 Boston Blvd, Springfield, VA 22153-3121.

Regional Environmental Officer, U.S. Department of the Interior, 244 Custom House, 200 Chestnut St., Philadelphia, PA 19106-2912.

Regional Administrator, U.S. Environmental Protection Agency, Region III, 1650 Arch St, Philadelphia, PA 19103-2029.

Naomi Johnson, Lands Program Manager, U.S. Forest Service, George Washington & Jefferson Nat. Forests, 5162 Valleypointe Pkwy, Roanoke, VA 24019-3050.

George Allen, Honorable, U.S. Senate, Washington, DC 20510.

John W. Warner, Honorable, U.S. Senate, Washington, DC 20510.

Malcolm G Deacon Jr., Vice President, VEPCO d/b/a Dominion Generation, 5000 Dominion Blvd, IN 1 NE., Glen Allen, VA 23060-3308.

A. Michael Wood, Director-Productions, VEPCO d/b/a Dominion Generation, PO Box 280, Warm Springs, VA 24484-0280.

C. Doug Holley, Director F&H Ops., VEPCO d/b/a Dominion Generation, Innsbrook Technical Center, IN 1 NE., 5000 Dominion Blvd., Glen Allen, VA 23060-3308.

Sara S Bell, Environmental Coord., VEPCO d/b/a Dominion Generation, PO Box 289, Warm Springs, VA 24484-0289.

Jim Thornton, Technical Advisor, VEPCO d/b/a Dominion Generation, Innsbrook Technical Center, IN 1 NE., 500 Dominion Boulevard, Glen Allen, VA 23060.

Katheryn B Curtis, VEPCO d/b/a Dominion Generation, Innsbrook Technical Center, IN 1 NE., 5000 Dominion Blvd., Glen Allen, VA 23060-3308.

Cynthia Oakey, Counsel, VEPCO d/b/a Dominion Generation, PO Box 26532, Richmond, VA 23261-6532.

Director, Virginia Dept. of Agriculture Commerce, PO Box 1163, Richmond, VA 23218-1163.

Director, Virginia Dept. of Conservation & Recreat, Division of Planning & Recreation Res. 203 Governor St Ste 326, Richmond, VA 23219-2049.

Evelyn M. Glazier, Director, Virginia Dept. of Economic Development, PO Box 798, Richmond, VA 23218-0798.

Tom Felvey, Virginia Dept of Environmental Quality, PO Box 10009, Richmond, VA 23240-0009.

Director, Virginia Dept. of Environmental Quality, PO Box 10009, Richmond, VA 23240-0009.

Manager, Virginia Dept, of Game & Inland Fisheries, 209 E Cleveland Ave., Vinton, VA 24179-2540.

Director, Virginia Dept. of Game & Inland Fishers, PO Box 11104, Richmond, VA 23230-1104.

State of Virginia, Director, Virginia Dept. of Health, PO Box 2448, Richmond, VA 23218-2448.

Coordinator, Virginia Dept. of Historic Resources, 2801 Kensington Ave., Richmond, VA 23221-2470.

Director, Virginia Dept. of Mines Minerals Energy, Division of Energy, 202 N 9th St Fl 8, Richmond, VA 23219-3402.

Director, Virginia Div. of Mined & Land Reclamation. PO Box 900, Big Stone Gap, VA 24219-0900.

Director, Virginia Div. of Mineral Resources, PO Box 3667, Charlottesville, VA 22903-0667.

Attorney General, Virginia Office of the Attorney General, 900 E Main St., Richmond, VA 23219-3513.

State of Virginia, Director, Virginia Soil & Conservation Commission, Suite 206, 203 Governor St., Richmond, VA 23219-2049.

Sherry H. Bridewell, Esquire, Virginia State Corporation Commission, PO Box 1197, Richmond, VA 23218-1197.

Environmental Engineer, Virginia State Department of Health, PO Box 2448, Richmond, VA 23218-2448.

Director, Virginia Water Control Board, PO Box 10009, Richmond, VA 23240-0009.

State of West Virginia, West Virginia Dept. of Natural Resources, Off. of Envir. & Reg. Affairs-Water Res., 1201 Greenbrier St., Charleston, WV 25311-1001.

[FR Doc. 03-13742 Filed 6-2-03; 8:45 am]

BILLING CODE 6717-01-P